DEPARTMENT OF HEALTH AND HUMAN SERVICES

Office of the Secretary

Listening Session on Intimate Partner Violence

AGENCY: Office of the Secretary, HHS.

ACTION: Notice of public meeting.

SUMMARY: The U.S. Department of Health and Human Services Office on Women's Health (OWH) is announcing a virtual listening session on the impact that COVID-19 has had on intimate partner violence (IPV). The purpose of the listening session is to exchange information about this topic and seek input from stakeholders and subject matter experts on an individual basis. OWH may use that information to inform our work in this area. Members of the general public are also invited to view the meeting.

DATES: The listening session will be held on September 28, 2022, from 10 a.m. to 12:00 p.m. Eastern Time.

Procedure for Attendance: Register for the listening session: https://www.zoomgov.com/meeting/register/vJItfuGgrDsoGxF_gSJjxdsDaFplyPZKdVo.

Website: You can find more information on https://www.womenshealth.gov/ipvlisteningsession.

Questions for Discussion: OWH seeks to better understand the role the COVID-19 pandemic may play in the reported rise of IPV. Questions for discussion at the public session may include, but are not limited to:

• What are you seeing in terms of the pandemic's impact on IPV trends?

• What effective interventions have you identified to address IPV?

• How and when can we best engage organizations around IPV in the future?

• What are your organization's suggestions on including perspectives of underserved communities?

• What has worked well in your collaboration with government agencies and offices around IPV? Conversely, what is one key barrier you encountered?

• How can we improve trust with the communities you represent, work most closely with, and/or advocate on behalf of?

• What is your top priority related to the impact of COVID-19 on IPV?

• What should we continue to focus on?

• Are there any missed opportunities?

• How do you think we can best provide access to information related to COVID-19's impact on IPV?

SUPPLEMENTARY INFORMATION:

I. Background: One recent study in the Journal of Interpersonal Violence revealed 64 percent of individuals who experienced IPV since the start of the COVID-19 pandemic reported that violence was a new characteristic of their relationship (Peitzmeier 2021).

We invite organizations who work with victims of IPV; Federal, State, local, and tribal public health officials; and law enforcement to provide insights into the current state of IPV and the impact of the COVID-19 pandemic on IPV. Members of the general public are also invited to view the session.

Topics for Listening Session: The listening session is an opportunity for the HHS OWH to hear what individual stakeholders and subject matter experts are experiencing with regard to the pandemic's influence on IPV, what we should consider when providing assistance or programming, how to include the perspectives of underserved communities, and what stakeholders see as the top priorities in addressing IPV.

II. Participation: The meeting is free and open to the public. Registration is required. Details on how to register for this listening session can be found at the top of the Notice.

Listening Session Availability: A recording of the listening session will be posted to the OWH YouTube channel, and a transcript of the listening session will be posted at https://www.regulations.gov.

References

Peitzmeier, Sarah M., Lisa Fedina, Louise Ashwell, et. al. 2021. “Increases in Intimate Partner Violence During COVID-19: Prevalence and Correlates.” Journal of Interpersonal Violence 8862605211052586. doi: 10.1177/08862605211052586.

Dated: August 24, 2022.
Dorothy Fink,
Deputy Assistant Secretary for Women's Health, Office of the Assistant Secretary for Health.

[FR Doc. 2022-19850 Filed 9-13-22; 8:45 am]

BILLING CODE 4150-33-P